DEPARTMENT OF HEALTH AND HUMAN SERVICES

Centers for Disease Control and Prevention

[Docket Number NIOSH-223]

Emergency Responder Health Monitoring and Surveillance

AGENCY: National Institute for Occupational Safety and Health (NIOSH) of the Centers for Disease Control and Prevention (CDC), Department of Health and Human Services (HHS).

ACTION: Notice of draft publication available for public comment.

SUMMARY: The National Institute for Occupational Safety and Health (NIOSH) of the Centers for Disease Control and Prevention (CDC) announces the availability of the following draft publication for public comment. The document is entitled, “Emergency Responder Health Monitoring and Surveillance.”

The draft document and instructions for submitting comments can be found at: http://www.cdc.gov/niosh/docket/review/docket223/.

The document proposes a new framework for ensuring responder safety and health by monitoring and conducting surveillance of their health and safety during the entire cycle of emergency response, including the pre-deployment, deployment, and post-deployment phases of a response. The proposed system is referred to as the “Emergency Responder Health Monitoring and Surveillance (ERHMS)” system, which includes a guidance section describing the principles of ensuring optimal responder safety and health, as well as a tools section to help facilitate the execution of these principles during an actual response.

The goals of this proposed system are to ensure that only properly trained and fit responders are deployed to a response, that the health and safety of all responders are appropriately monitored during a response, and that a systematic and comprehensive evaluation be conducted to determine the potential need for long term surveillance of responders' health after their deployment has been completed. This system will help to ensure that hazardous occupational exposures and signs and symptoms observed during an emergency response are utilized to mitigate adverse physical and psychological outcomes and determine whether protective measures are sufficient to prevent or reduce harmful exposures to workers. Data collected during the pre-, during-, and post-deployment phases will also help to identify which responders would benefit from medical referral and possible enrollment in a long-term health surveillance program.

The document, entitled “Emergency Responder Health Monitoring and Surveillance,” can be viewed at: http://www.cdc.gov/niosh/docket/review/docket223/.

This guidance does not have the force and effect of the law.

Public Comment Period: Comments must be received by April 5, 2011.

ADDRESSES: Written comments may be submitted to the NIOSH Docket Office, identified by Docket Number NIOSH-223, by any of the following methods:

• Mail: NIOSH Docket Office, Robert A. Taft Laboratories, MS-C34, 4676 Columbia Parkway, Cincinnati, Ohio 45226.

• Facsimile: (513) 533-8285.

• E-mail: nioshdocket@cdc.gov.

All information received in response to this notice will be available for public examination and copying at the NIOSH Docket Office, 4676 Columbia Parkway, Room 111, Cincinnati, Ohio 45226.

A complete electronic docket containing all comments submitted will be available on the NIOSH Web page at http://www.cdc.gov/niosh/docket, and comments will be available in writing by request. NIOSH includes all comments received without change in the docket, including any personal information provided. All electronic comments should be formatted as Microsoft Word. Please make reference to Docket Number NIOSH-223.

FOR FURTHER INFORMATION CONTACT: Renée Funk, D.V.M., telephone (404) 498-1376, e-mail rjf8@cdc.gov, NIOSH, MS-E20, 1600 Clifton Road NE., Atlanta, GA 30333.

Dated: January 28, 2011.
John Howard,
Director, National Institute for Occupational Safety and Health, Centers for Disease Control and Prevention.

[FR Doc. 2011-2527 Filed 2-3-11; 8:45 am]

BILLING CODE 4163-19-P